DEPARTMENT OF ENERGY

Federal Energy Regulatory Commission

[Docket No. RP02-451-003]

Northern Natural Gas Company; Notice of Compliance Filing

August 6, 2003.

Take notice that on July 28, 2003, Northern Natural Gas Company (Northern), tendered for filing as part of its FERC Gas Tariff, Fifth Revised Volume No. 1 the following tariff sheet, with an effective date of October 1, 2003:

Fourth Revised Sheet No. 269

Northern states that the filing is being filed to correct an inadvertent oversight regarding its imbalance trading provisions in its December 23, 2002 compliance filing in this proceeding.

Northern further states that copies of the filing have been mailed to each of its customers and interested State Commissions.

Any person desiring to be heard or to protest said filing should file a motion to intervene or a protest with the Federal Energy Regulatory Commission, 888 First Street, NE., Washington, DC 20426, in accordance with § 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: August 11, 2003.

Magalie R. Salas,
Secretary.

[FR Doc. 03-20621 Filed 8-12-03; 8:45 am]

BILLING CODE 6717-01-P